DEPARTMENT OF ENERGY

National Energy Technology Laboratory; Notice of Availability of Financial Assistance Solicitation

AGENCY: National Energy Technology Laboratory (NETL), Department of Energy (DOE).

ACTION: Notice of availability of a financial assistance solicitation.

SUMMARY: Notice is hereby given of the intent to issue Financial Assistance Solicitation No. DE-PS26-01NT41130 entitled “Biomass Research and Development: Advance Biomass Power Generation Technologies”. The Office of Biopower and Hydropower Technologies of the Department of Energy's (DOE) Office of Energy Efficiency and Renewable Energy (EERE) is supporting the issuance of this solicitation.

Pursuant to guidance contained in the Biomass Research and Development Act of 2000, this Solicitation will support the development of advanced biomass power systems offering to diversify the range of products that can be efficiently and cost-competitively produced from biomass by encouraging the co-production of power and heat as an integrated component of biomass processing. These systems are to be predominantly based on advanced biomass gasification technologies and may incorporate related research in advanced turbine and stationary fuel cell technology for production of electricity from biomass.

The DOE recognizes that technologies which efficiently convert biomass into bio-based industrial products such as heat and power offer outstanding potential benefit to the national interest through: (A) Improved strategic security and balance of payments; (B) promotion of rural economic development; (C) improved environmental quality; (D) near-zero net greenhouse gas emissions; (E) technology export; and (F) diversification of energy resource options. However, key technical challenges remain to be overcome in order for biomass conversion technologies to be cost-competitive. Among these are developing new integrated processes that show promise for reducing cost and increasing efficiency.

The relatively lengthy time and risks associated with the development and integration of new biomass power systems, based on advanced gasification technologies may make it difficult for the private sector to justify the sustained investment necessary. However the National benefits of such systems are driving the DOE's effort to support pre-commercial R&D directed towards Advanced Biomass Power Systems development.

Since DOE does not intend to issue a draft of the subject solicitation, prospective applicants are invited to e-mail any comments and/or questions associated with the “need” area(s) identified in this announcement. Please submit all comments/questions to Ms. Donna Jaskolka via the Internet at jaskolka@netl.doe.gov by COB March 21, 2001.

DATES: The solicitation will be available on the DOE/NETL's Internet address at http://www.netl.doe.gov/business on or about March 30, 2001. It is anticipated that the closing date for receipt of proposals will be on or about May 31, 2001.

FOR FURTHER INFORMATION CONTACT: Donna J. Jaskolka, U.S. Department of Energy, National Energy Technology Laboratory, P.O. Box 109540, MS 921-107, Pittsburgh, PA 15236-0940,

E-mail Address: jaskolka@netl.doe.gov

Telephone Number: 412/386-6106

Facsimile Number: 412/386-6137.

SUPPLEMENTARY INFORMATION: A primary objective of the Office of Biopower and Hydropower Technologies is to support pre-commercial research that develops technologies for the production of power, heat and other valuable by-products from biomass. The specific objective of Program Solicitation DE-PS26-01NT41130 is to support new approaches to improve gasification-based technologies for power, heat and co-production. The ultimate intent of the DOE is for the development team to package the advanced power generation systems developed under this solicitation for high volume regional and/or National commercial sales. Program emphasis is on the development of advanced power generation systems that can meet the following program objectives:

Load: Baseload power generation with a nominal annual capacity factor of 85%.

Size: It is not the intention of DOE to be prescriptive in this area. While studies seem to suggest that a nominal size of 20MW may be well suited to match local biomass resource availability, upper limits on plant size are flexible. A lower limit of 5MW is set to preclude programmatic duplication.

Costs of Power: The proposer must demonstrate that the cost of power is competitive in individual circumstances.

Efficiency: For plants under 100MW, a total power production efficiency of at least 35% with the clear potential to evolve to 45%. Co-production facilities must have the capability of attaining 60% thermal efficiency. Plants larger than 100MW must be capable of achieving 45% efficiency.

Airborne Emissions: Emissions shall not be greater than one-half the amount allowed by current New Source Performance Standards for coal-fired electric power generating stations, or local regulations where system deployment is being considered.

Solid Wastes: All solid wastes must be benign with regard to disposal. Preference will be given to concepts in which solid waste generation is minimized through the production of usable by-products.

Acceptable Fuels: The ultimate goal is the development of advanced power generation systems in which biomass is the predominant fuel (> 95 percent of heat input). Initial commercial systems capable of utilizing biomass as the primary fuel (> 65 percent of heat input) are acceptable, so long as such initial systems are capable of evolving to configurations in which biomass would be the predominant fuel. However, preference will be given to initial systems in which biomass provides greater than the minimum acceptable level of heat input, provided that the proposers can demonstrate that there is no substantial increase in technical risk. Blending of gasification products with other gaseous fuels (e.g. natural gas, propane, etc.) in order to enhance the system's reliability and cost performance may be considered.

Biomass Fuel Flexibility: Given the tremendous variation in the compositional characteristics across the many biomass families (e.g., woods, herbaceous crops, manures, etc.), it is recognized that a single power system may not be appropriate to utilize all biomass. Accordingly, the R&D proposed and performed as a result of this solicitation may address a specific but significant subset of available biomass.

Performance Attributes: Preference will be given to concepts that allow load-following with minimal degradation of efficiency, and that are amenable to construction using factory assembled modular components based upon standard designs.

Note: Biomass refers to plant materials and/or animal waste used as a source of fuel. Animal Waste refers to the manure produced and any associated bedding material mixed within the manure and excludes animal processing waste. Unsegregated Municipal Solid Waste (MSW), hazardous waste, and medical waste will not be considered to be biomass. Segregated MSW is an acceptable fuel for this solicitation and would include non-recyclable paper and non-treated wood waste. There is no interest in receiving applications for aerobic or anaerobic digesters, landfill gas, or animal gas production.

It is not the intent of this solicitation to accelerate R&D on advanced power generation systems that are already being developed within this or other DOE power systems R&D programs. However the use of other advanced power systems components being developed by DOE's Offices of Energy Efficiency and Renewable Energy (EE), and Fossil Energy (FE) (e.g., turbines, fuel cells, gas cleaning, membranes, catalysts, etc.) as part of the overall process is allowable and encouraged if consistent with the objectives of the solicitation. Collaboration with other EE or FE participants is encouraged to maximize project effectiveness. Multi-disciplinary teams consisting of partners having significant expertise related to biomass supply issues and resource utilization, technology developers, and equipment manufacturers, energy service companies or A&E firms servicing the power industry, or power markets, and power generating companies are strongly encouraged to propose. Applications submitted by or on behalf of (1) another Federal agency; (2) a Federally Funded Research and Development Center sponsored by another Federal agency; or (3) a Department of Energy (DOE) Management and Operating (M&O) contractor will not be eligible for award under this solicitation. However, an application that includes performance of a portion of the work by a DOE M&O contractor will be evaluated and may be considered for award subject to the provisions to be set forth in Program Solicitation DE-PS26-01NT41130 (NOTE: The limit on participation by an M&O contractor for an individual project under this solicitation cannot exceed 20% of the total project cost).

Applicants that are seeking financial assistance under this solicitation are subject to the eligibility requirements of Section 2306 of the Energy Policy Act of 1992 (EPAct); further guidance will be included in the Program Solicitation. DOE anticipates issuing financial assistance (cooperative agreement) awards with a project performance period of up to six (6) months. Projects resulting from this Announcement are considered research and development projects.

Approximately $1,000,000 of DOE funding is planned for this solicitation. DOE has determined that a minimum cost share of twenty percent (20%) of the total estimated project cost is required; details of the cost sharing requirement and the specific funding levels will be contained in the program solicitation.

Prospective applicants should routinely access the NETL Electronic Business Center at http://www.netl.doe.gov/business/solicit/index.html. Please note that the “Business Alert Registration/Notification” is not currently functional, and cannot be relied upon for electronic notification of availability of the solicitation. Telephone requests, written requests, e-mail requests or facsimile requests for a copy of the solicitation package will not be accepted and/or honored. Applications must be prepared and submitted in accordance with the instructions and forms contained in the solicitation. The actual solicitation document will allow for requests for explanation and/or interpretation.

Issued in Pittsburgh, PA on March 12, 2001.
Dale A. Siciliano,
Deputy Director, Acquisition and Assistance Division.

[FR Doc. 01-6826 Filed 3-19-01; 8:45 am]

BILLING CODE 6450-01-P